DEPARTMENT OF VETERANS AFFAIRS

Non-VA Care Core Provider Network

AGENCY: Department of Veterans Affairs.

ACTION: Notice of Tribal Consultation.

SUMMARY: The Department of Veterans Affairs (VA), Veterans Health Administration (VHA) is seeking a Tribal Consultation on VHA's effort to improve continuity of care and health care access via the development of a non-VA care core provider network utilizing agreements with high quality partners who also share the privilege of serving Veterans.

DATES: Comments must be received by VA on or before Monday, October 26, 2015.

FOR FURTHER INFORMATION CONTACT: Clay Ward, VA Office of Tribal Government Relations by phone at (202) 461-7445 (this is not a toll-free number), or by email at Tribalgovernmentconsultation@va.gov, or by mail at Suite 915B, 810 Vermont Avenue NW., Washington, DC 20420.

ADDRESSES: Written comments may be submitted to the VA Office of Public and Intergovernmental Affairs, Office of Tribal Government Relations by email at Tribalgovernmentconsultation@va.gov, by fax at (202) 273-5716, or by mail at U.S. Department of Veterans Affairs, Suite 915L, 810 Vermont Avenue NW., Washington, DC 20420. Comments should indicate that the submission is in response to “Notice of Tribal Consultation Non-VA Care Core Provider Network.”

SUPPLEMENTARY INFORMATION: In July 2015, Congress passed the VA Budget and Choice Improvement Act, which calls for VA to develop by November 1, 2015 a plan to consolidate and streamline VA community care. In the plan due to Congress, VA proposes to reference, in the plan due to Congress, the Indian Health Service (IHS) and Tribal Health Programs (THP) as members of the VA core provider network. Inclusion in the core network of providers would preserve and build on VA's existing relationship IHS and THP and facilitate future collaborations to improve health care services provided to all eligible, enrolled Veterans. This Tribal Consultation is seeking input from tribal governments regarding this proposed inclusion in the core provider network.

Signing Authority: The Secretary of Veterans Affairs, or designee, approved this document and authorized the undersigned to sign and submit the document to the Office of the Federal Register for publication electronically as an official document of the Department of Veterans Affairs. Robert L. Nabors II, Chief of Staff, Department of Veterans Affairs, approved this document on October 9, 2015, for publication.

Dated: October 9, 2015.
Jeffrey M. Martin,
Office Program Manager, Office of Regulation Policy & Management, Office of the General Counsel, Department of Veterans Affairs.

[FR Doc. 2015-26254 Filed 10-14-15; 8:45 am]

BILLING CODE 8320-01-P